COMMISSION ON CIVIL RIGHTS

Agenda and Notice of Public Meeting of the Maryland Advisory Committee

AGENCY: Commission on Civil Rights.

ACTION: Announcement of meeting.

SUMMARY: Notice is hereby given, pursuant to the provisions of the rules and regulations of the U.S. Commission on Civil Rights (Commission), and the Federal Advisory Committee Act (FACA), that an orientation and planning meeting of the Maryland State Advisory Committee to the Commission (MD State Advisory Committee) will convene at 12:30 p.m. (EST) on Friday, March 18, 2016, by conference call. The purpose of the orientation meeting is to inform the newly appointed members about the rules of operation for the advisory committee. The purpose of the planning meeting is to discuss project planning, the selection of additional committee officers and plans for future meetings.

Interested members of the public may listen to the discussion by calling the following toll-free conference call number 1-888-364-3109 and conference call ID code: 8302334#. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number.

Persons with hearing impairments may also follow the discussion by first calling the Federal Relay Service at 1-888-364-3109 and provide the operator with the conference call number: 1-888-364-3109 and conference call ID code: 8302334#.

Members of the public are invited to submit written comments; the comments must be received in the regional office by Monday, April 18, 2016. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://facadatabase.gov/committee/meetings.aspx?cid=253 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Agenda

Administrative Matters

Ivy L. Davis, Director, Director, Eastern Regional Office and Designated Federal Official

Welcome and Introductions

Thomas M. Mackall, Chair, MD State Advisory Committee

Orientation Meeting

MD State Advisory Committee

Planning Meeting

MD State Advisory Committee

DATES: Friday, March 18, 2016 at 12:30 p.m. (EST).

Public Call Information: Conference call number: 1-888-364-3109; Conference Call ID code: 8302334#. TDD: Dial Federal Relay Service 1-800-977-8339 and give the operator the above conference call number and conference call ID Code.

FOR FURTHER INFORMATION CONTACT: Ivy L. Davis, at ero@usccr.gov or by phone at 202-376-7533.

Dated: February 12, 2016.
David Mussatt,
Chief, Regional Programs Unit.

[FR Doc. 2016-03435 Filed 2-18-16; 8:45 am]

BILLING CODE 6335-01-P